DEPARTMENT OF ENERGY

Federal Energy Regulatory Commission

Combined Notice of Filings #1

Take notice that the Commission received the following electric rate filings:

Docket Numbers: ER18-1247-001.

Applicants: Entergy Arkansas, Inc.

Description: Report Filing: EAL Refund Report (ER18-1247-001) to be effective N/A.

Filed Date: 9/16/20.

Accession Number: 20200916-5056.

Comments Due: 5 p.m. ET 10/7/20.

Docket Numbers: ER20-2446-001.

Applicants: Bitter Ridge Wind Farm, LLC.

Description: Tariff Amendment: Deficiency Filing for Bitter Ridge Reactive Rate Schedule to be effective 9/14/2020.

Filed Date: 9/17/20.

Accession Number: 20200917-5040.

Comments Due: 5 p.m. ET 9/28/20.

Docket Numbers: ER20-2878-003.

Applicants: Pacific Gas and Electric Company.

Description: Tariff Amendment: Third Amendment to Wholesale Distribution Tariff Rate Case 2020 (WDT3), PWRPA 30 to be effective 11/15/2020.

Filed Date: 9/16/20.

Accession Number: 20200916-5071.

Comments Due: 5 p.m. ET 10/7/20.

Docket Numbers: ER20-2878-004.

Applicants: Pacific Gas and Electric Company.

Description: Tariff Amendment: Fourth Amendment to Wholesale Distribution Tariff Rate Case 2020 (WDT3), PWRPA56 to be effective 11/15/2020.

Filed Date: 9/16/20.

Accession Number: 20200916-5075.

Comments Due: 5 p.m. ET 10/7/20.

Docket Numbers: ER20-2878-005.

Applicants: Pacific Gas and Electric Company.

Description: Tariff Amendment: Fifth Amendment to Wholesale Distribution Tariff Rate Case 2020 (WDT3), S Cove to be effective 11/15/2020.

Filed Date: 9/16/20.

Accession Number: 20200916-5077.

Comments Due: 5 p.m. ET 10/7/20

Docket Numbers: ER20-2878-006.

Applicants: Pacific Gas and Electric Company.

Description: Tariff Amendment: Sixth Amendment to Wholesale Distribution Tariff Rate Case 2020 (WDT3), Western to be effective 11/15/2020.

Filed Date: 9/16/20.

Accession Number: 20200916-5079.

Comments Due: 5 p.m. ET 10/7/20.

Docket Numbers: ER20-2878-007.

Applicants: Pacific Gas and Electric Company.

Description: Tariff Amendment: Seventh Amendment to Wholesale Distribution Tariff Rate Case 2020 (WDT3), WPA to be effective 11/15/2020.

Filed Date: 9/16/20.

Accession Number: 20200916-5082.

Comments Due: 5 p.m. ET 10/7/20.

Docket Numbers: ER20-2878-008.

Applicants: Pacific Gas and Electric Company.

Description: Tariff Amendment: Eighth Amendment to Wholesale Distribution Tariff Rate Case 2020 (WDT3), Western to be effective 11/15/2020.

Filed Date: 9/16/20.

Accession Number: 20200916-5084.

Comments Due: 5 p.m. ET 10/7/20.

Docket Numbers: ER20-2898-000.

Applicants: PJM Interconnection, L.L.C.

Description: § 205(d) Rate Filing: Original WMPA, Service Agreement No. 5762; Queue No. AF2-282 to be effective 8/18/2020.

Filed Date: 9/17/20.

Accession Number: 20200917-5016.

Comments Due: 5 p.m. ET 10/8/20.

Docket Numbers: ER20-2899-000.

Applicants: PJM Interconnection, L.L.C.

Description: § 205(d) Rate Filing: Amendment to WMPA, Service Agreement No. 5603; Queue No. AD2-065 to be effective 2/6/2020.

Filed Date: 9/17/20.

Accession Number: 20200917-5019.

Comments Due: 5 p.m. ET 10/8/20.

Docket Numbers: ER20-2900-000

Applicants: PJM Interconnection, L.L.C.

Description: § 205(d) Rate Filing: Original WMPA SA No. 5768; Queue No. AF2-284 to be effective 8/18/2020.

Filed Date: 9/17/20.

Accession Number: 20200917-5021.

Comments Due: 5 p.m. ET 10/8/20.

Docket Numbers: ER20-2901-000.

Applicants: PJM Interconnection, L.L.C.

Description: § 205(d) Rate Filing: Original WMPA SA No. 5769; Queue No. AF2-285 to be effective 8/18/2020.

Filed Date: 9/17/20.

Accession Number: 20200917-5033.

Comments Due: 5 p.m. ET 10/8/20.

Docket Numbers: ER20-2902-000.

Applicants: PJM Interconnection, L.L.C.

Description: Tariff Cancellation: Notice of Cancellation of WMPA SA No. 5283; Queue No. AD1-045 to be effective 8/14/2020.

Filed Date: 9/17/20.

Accession Number: 20200917-5038.

Comments Due: 5 p.m. ET 10/8/20.

Docket Numbers: ER20-2903-000.

Applicants: Sierra Pacific Power Company.

Description: § 205(d) Rate Filing: Service Agreement No. 16-00054; Battle Mountain LGIA 4th Amendment to be effective 9/18/2020.

Filed Date: 9/17/20.

Accession Number: 20200917-5070.

Comments Due: 5 p.m. ET 10/8/20.

Docket Numbers: ER20-2904-000.

Applicants: PJM Interconnection, L.L.C.

Description: Tariff Cancellation: Notice of Cancellation of WMPA, SA No. 5282; Queue No. AD1-046 re: withdrawal to be effective 10/13/2020.

Filed Date: 9/17/20.

Accession Number: 20200917-5090.

Comments Due: 5 p.m. ET 10/8/20.

Docket Numbers: ER20-2905-000.

Applicants: PJM Interconnection, L.L.C.

Description: Tariff Cancellation: Notice of Cancellation of ISAs, SA Nos. 3933 and 3934; Queue No. R30 to be effective 10/11/2019.

Filed Date: 9/17/20.

Accession Number: 20200917-5094.

Comments Due: 5 p.m. ET 10/8/20.

Docket Numbers: ER20-2906-000.

Applicants: PJM Interconnection, L.L.C.

Description: § 205(d) Rate Filing: Original WMPA SA No. 5767; Queue No. AF2-283 to be effective 8/17/2020.

Filed Date: 9/17/20.

Accession Number: 20200917-5096.

Comments Due: 5 p.m. ET 10/8/20.

Docket Numbers: ER20-2907-000.

Applicants: PJM Interconnection, L.L.C.

Description: Tariff Cancellation: Notice of Cancellation of WMPA, SA No. 5281; Queue No. AD1-044 re: withdrawal to be effective 10/13/2020.

Filed Date: 9/17/20.

Accession Number: 20200917-5098.

Comments Due: 5 p.m. ET 10/8/20.

Docket Numbers: ER20-2908-000.

Applicants: Avista Corporation.

Description: Compliance filing: Avista Corp OATT Order 845/845A Compliance Filing to be effective 10/17/2020.

Filed Date: 9/17/20.

Accession Number: 20200917-5099.

Comments Due: 5 p.m. ET 10/8/20.

Docket Numbers: ER20-2909-000.

Applicants: PJM Interconnection, L.L.C.

Description: Tariff Cancellation: Notice of Cancellation of ICSA, SA No. 5215; Queue No. AB1-006 to be effective 8/21/2020.

Filed Date: 9/17/20.

Accession Number: 20200917-5100.

Comments Due: 5 p.m. ET 10/8/20.

Docket Numbers: ER20-2910-000.

Applicants: Appalachian Power Company.

Description: § 205(d) Rate Filing: Notice of Cancellation AEPSC-Big Sandy Peaker Plant Interconnect/Operation Agrmt to be effective 11/21/2020.

Filed Date: 9/17/20.

Accession Number: 20200917-5103.

Comments Due: 5 p.m. ET 10/8/20.

Take notice that the Commission received the following foreign utility company status filings:

Docket Numbers: FC20-15-000.

Applicants: Suncor Energy Inc., Fort Hills Energy LP.

Description: Notice of Self-Certification of Foreign Utility Company Status of Fort Hills Energy LP, et. al.

Filed Date: 9/16/20.

Accession Number: 20200916-5065.

Comments Due: 5 p.m. ET 10/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2020.
Nathaniel J. Davis, Sr.,
Deputy Secretary.

[FR Doc. 2020-20975 Filed 9-22-20; 8:45 am]

BILLING CODE 6717-01-P